DEPARTMENT OF DEFENSE

Department of the Navy

[Docket ID: USN-2008-0031]

Privacy Act of 1974; System of Records

AGENCY: Department of the Navy, DoD.

ACTION: Notice to Amend a System of Records.

SUMMARY: The Department of the Navy is amending a system of records notice in its existing inventory of record systems subject to the Privacy Act of 1974, (5 U.S.C. 552a), as amended.

DATES: This proposed action will be effective without further notice on May 30, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: April 23, 2008.
Patricia Toppings,
OSD Federal Register Liaison Officer, Department of Defense.

N01070-7

System name:

NEXCOM Military Personnel Information System (March 2, 1994, 59 FR 9966).

Changes:

* * * * *

Authority for maintenance of the system:

Delete entry and replace with “10 U.S.C. 5013, Secretary of the Navy and E.O. 9397 (SSN).”

* * * * *

Policies and practices for storing, retrieving, accessing, retaining, and disposing of records in the system:

Storage:

Delete entry and replace with “Paper and computerized records.”

* * * * *

Safeguards:

Delete entry and replace with “All information is maintained in locked file cabinets or locked archives. Computer systems are password protected and accessible to only individuals with a need to know.”

Notification procedure:

Delete entry and replace with “Individuals seeking to determine whether this system of records contains information about themselves should address written inquiries to the Director, Office of Military Personnel, 3280 Virginia Beach Boulevard, Virginia Beach, VA 23452-5724.

Written requests must be signed and include full name, Social Security Number and military duty status. At the time of a personal visit, the requester must provide proof of identity containing the requester's signature.”

Record access procedures:

Delete entry and replace with “Individuals seeking access to records about themselves contained in this system of records should address written inquiries to the Director, Office of Military Personnel, 3280 Virginia Beach Boulevard, Virginia Beach, VA 23452-5724.

Written requests must be signed and include full name, Social Security Number and military duty status. At the time of a personal visit, the requester must provide proof of identity containing the requester's signature.”

* * * * *

Record source categories:

Delete entry and replace with “Defense Manpower Data Center; Navy Personnel Command; the individual; and the individual's supervisor.”

* * * * *

N01070-7

System name:

NEXCOM Military Personnel Information System.

System location:

Navy Exchange Service Command, 3280 Virginia Beach Boulevard, Virginia Beach, VA 23452-5724.

Categories of individuals covered by the system:

Present and past military officers and key enlisted personnel assigned to the Navy Exchange System.

Categories of records in the system:

Name; rank or rate; dependency status; Social Security Number (SSN); designation; date of rank; date reported; rotation date; educational level; lineal number; location of assignments; preference of assignment, biographical information, and orders.

Authority for maintenance of the system:

10 U.S.C. 5013, Secretary of the Navy and E.O. 9397 (SSN).

Purpose(s):

To assist officials and employees of the Navy Exchange Service Command in the management, supervision, and administration of its personnel.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of the Navy's compilation of systems of records apply to this system.

Policies and practices for storing, retrieving, accessing, retaining, and disposing of records in the system:

Storage:

Paper and computerized records.

Retrievability:

Name and Social Security Number (SSN).

Safeguards:

All information is maintained in locked file cabinets or locked archives. Computer systems are password protected and accessible to only individuals with a need to know.

Retention and disposal:

Destroyed three years following an individual's discharge/retirement from the Navy.

System manager(s) and address:

Policy Official: Commander, Navy Exchange System, 3280 Virginia Beach Boulevard, Virginia Beach, VA 23452-5724.

Record Holder: Director, Office of Military Personnel, 3280 Virginia Beach Boulevard, Virginia Beach, VA 23452-5724.

Notification procedure:

Individuals seeking to determine whether this system of records contains information about themselves should address written inquiries to the Director, Office of Military Personnel, 3280 Virginia Beach Boulevard, Virginia Beach, VA 23452-5724.

Written requests must be signed and include full name, Social Security Number (SSN) and military duty status. At the time of a personal visit, the requester must provide proof of identity containing the requester's signature.

Record access procedures:

Individuals seeking access to records about themselves contained in this system of records should address written inquiries to the Director, Office of Military Personnel, 3280 Virginia Beach Boulevard, Virginia Beach, VA 23452-5724.

Written requests must be signed and include full name, Social Security Number (SSN) and military duty status. At the time of a personal visit, the requester must provide proof of identity containing the requester's signature.

Contesting record procedures:

The Navy's rules for accessing records, and for contesting contents and appealing initial agency determinations are published in Secretary of the Navy Instruction 5211.5; 32 CFR part 701; or may be obtained from the system manager.

Record source categories:

Defense Manpower Data Center; Navy Personnel Command; the individual; and the individual's supervisor.

Exemptions claimed for the system:

None.

[FR Doc. E8-9385 Filed 4-29-08; 8:45 am]

BILLING CODE 5001-06-P